DEPARTMENT OF TRANSPORTATION

Federal Aviation Administration

14 CFR Part 97

[Docket No. 30148; Admt. No. 2003]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591,

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on August 4, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective October 5, 2000

Walnut Ridge, AR, Walnut Ridge Regional, VOR-A, Amdt 16

Walnut Ridge, AR, Walnut Ridge Regional, VOR/DME RWY 22, Amtd 13

Walnut Ridge, AR, Walnut Ridge Regional, LOC RWY 18, Amdt 3

Walnut Ridge, AR, Walnut Ridge Regional, NDB RWY 18, Amdt 4

Jacksonville, FL, Cecil Field , VOR RWY 9R, Orig

Alton/St. Louis, IL, St. Louis Regional, NDB OR GPS RWY 29, Amdt 10B

Carbondale/Murphysboro, IL, Southern Illinois, NDB OR GPS RWY 18L, Amdt 12C

Champaign-Urbana, IL, University of Illinois-Willard, NDB OR GPS RWY 32L, Amdt 10B

Danville, IL, Vermilion County, VOR/DME OR GPS RWY 3, Amdt 11B

Effingham, IL, Effingham County Memorial, LOC RWY 29, Amdt 1B

Galesburg, IL, Galesburg Muni, VOR OR GPS RWY 21, Amdt 6B

Macomb, IL, Macomb Muni, NDB OR GPS RWY 27, Amdt 2D

Pekin, IL, Pekin Muni, VOR/DME RNAV OR GPS RWY 9, Amdt 5A

Peoria, IL, Greater Peoria Regional, NDB OR GPS RWY 31, Amdt 14A

South Bend, IN, South Bend Regional, VOR OR GPS RWY 18, Amdt 7B

South Bend, IN, South Bend Regional, NDB OR GPS RWY 27L, Amdt 28C

Hays, KS, Hays Regional, RNAV RWY 34, Orig

Frenchville, ME, Northern Aroostock Regional, NDB RWY 32, Amdt 6

Frenchville, ME, Northern Aroostock Regional, RNAV RWY 14, Orig

Frenchville, ME, Northern Aroostock Regional, RNAV RWY 32, Orig

College Park, MD, College Park, RNAV RWY 15, Orig

College Park, MD, College Park, VOR/DME RNAV RWY 15, Amdt 3

Gaithersburg, MD, Montgomery County Airpark, VOR RWY 14, Amdt 3

Gaithersburg, MD, Montgomery County Airpark, NDB RWY 14, Amdt 1

Gaithersburg, MD, Montgomery County Airpark, RNAV RWY 14, Orig

Gaithersburg, MD, Montgomery County Airpark, VOR/DME RNAV RWY 14, Amdt 4, CANCELLED

Stevensville, MD, Bay Bridge, VOR/DME RWY 29, Amdt 1

Stevensville, MD, Bay Bridge, RNAV RWY 11, Orig

Stevensville, MD, Bay Bridge, GPS RWY 11, Orig, CANCELLED

Stevensville, MD, Bay Bridge, RNAV RWY 29, Orig

Westminster, MD, Carroll County Reg/Jack B. Poage Field, VOR-A, Amdt 1

Westminster, MD, Carroll County Reg/Jack B. Poage Field, VOR RWY 34, Amdt 4

Westminster, MD, Carroll County Reg/Jack B. Poage Field, RNAV RWY 16, Orig

Westminster, MD, Carroll County Reg/Jack B. Poage Field, RNAV RWY 34, Orig

Westminster, MD, Clearview Airpark, VOR-A, Amdt 4

Westminster, MD, Clearview Airpark, RNAV RWY 14, Orig

Chillicothe, OH, Ross County, VOR RWY 23, Amdt 3B

Columbus, OH, Bolton Field, NDB OR GPS RWY 4, Amdt 6B

Columbus, OH, Rickenbacker Intl, NDB OR GPS RWY 23L, Orig-A

Findlay, OH, Findlay, GPS RWY 18, Amdt 1A

Fremont, OH, Sandusky County Regional, GPS RWY 6, Orig-A

Fremont, OH, Sandusky County Regional, GPS RWY 24, Orig-A

Lancaster, OH, Fairfield County, LOC RWY 28, Amdt 1A

Lancaster, OH, Fairfield County, NDB OR GPS RWY 28, Amdt 8A

Lancaster, OH, Fairfield County, VOR/DME RNAV OR GPS RWY 10, Amdt 10A

Lima, OH, Lima Allen County, VOR OR GPS RWY 27, Amdt 14B

Marion, OH, Marion Muni, GPS RWY 24, Orig-A

Mount Vernon, OH, Knox County, VOR/DME RNAV OR GPS RWY 28, Amdt 2B

Springfield, OH, Springfield-Beckley Muni, NDB OR GPS RWY 24, Amdt 16A

Wapakoneta, OH, Neil Armstrong, LOC RWY 26, Amdt 3C

Wapakoneta, OH, Neil Armstrong, VOR/DME RNAV OR GPS RWY 26, Amdt 5C

Springfield, TN, Springfield-Robertson County, LOC RWY 4, Orig

Springfield, TN, Springfield-Robertson County, NDB RWY 4, Orig

Corsicana, TX, C. David Campbell Field-Corsicana Muni, VOR/DME-A, Amdt 1

Corsicana, TX, C. David Campbell Field-Corsicana Muni, VOR/DME-B, Amdt 1

Corsicana, TX, C. David Campbell Field-Corsicana Muni, NDB RWY 14, Amdt 4

Corsicana, TX, C. David Campbell Field-Corsicana Muni, NDB RWY 32, Amdt 3

Corsicana, TX, C. David Campbell Field-Corsicana Muni, RNAV RWY 14, Orig

Corsicana, TX, C. David Campbell Field-Corsicana Muni, RNAV RWY 32, Orig

Charlotte Amalie, VI, Cyril E King, GPS RWY 10, Orig, CANCELLED

Charlotte Amalie, VI, Cyril E King, RNAV RWY 10, Orig

[FR Doc. 00-20275 Filed 8-9-00; 8:45 am]

BILLING CODE 4910-13-M